DEPARTMENT OF TRANSPORTATION

Federal Aviation Administration

14 CFR Part 71

[Docket No. FAA-2005-22398; Airspace Docket No. 05-ASO-7]

RIN 2120-AA66

Establishment of High Altitude Area Navigation Routes; South Central United States

AGENCY: Federal Aviation Administration (FAA), DOT.

ACTION: Final rule.

SUMMARY: This action establishes 16 high altitude area navigation (RNAV) routes in the South Central United States in support of the High Altitude Redesign (HAR) program. The FAA is taking this action to enhance safety and to facilitate the more flexible and efficient use of the navigable airspace.

EFFECTIVE DATE: 0901 UTC, April 13, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On September 27, 2005, the FAA published in the Federal Register a notice of proposed rulemaking to establish 16 RNAV routes in the South Central United States, within the airspace assigned to the Memphis Air Route Traffic Control Center (ARTCC) (70 FR 56391). The routes were proposed as part of the HAR program to enhance safety and facilitate the more flexible and efficient use of the navigable airspace for en route instrument flight rules (IFR) aircraft operations. Interested parties were invited to participate in this rulemaking effort by submitting written comments on this proposal to the FAA. One comment was received in response to the NPRM. The comment supported the proposal.

High altitude area navigation routes are published in paragraph 2006 of FAA Order 7400.9N dated September 1, 2005 and effective September 15, 2005, which is incorporated by reference in 14 CFR 71.1. The area navigation routes listed in this document will be published subsequently in the order.

The Rule

This action amends Title 14 Code of Federal Regulations (14 CFR) part 71 by establishing 16 RNAV routes in the South Central United States, within the airspace assigned to Memphis ARTCC. The FAA is taking this action in support of the HAR program to enhance safety and to facilitate the more flexible and efficient use of the navigable airspace for en route instrument flight rules (IFR) operations. This rule includes several corrections to the route descriptions published in the NPRM. In route Q-26, the name of the fix “ABROC” is being changed to “DEVAC.” In route Q-31, the name of the waypoint “TOROS” is changed to “JODOX,” and in route Q-40, the waypoint name “SALVA” is changed to “WINAP.” These changes affect only the fix or waypoint names; the latitude and longitude coordinates for these points remain the same as published in the NPRM. The name changes are necessary to avoid duplication with other fixes. Finally, the order of the points listed for routes Q-19 and Q-33 has been reversed to comply with policy that odd numbered routes be described with the points listed from South to North. This does not affect the actual alignment of routes Q-19 and Q-33. Except for these changes, the routes in this rule are the same as those proposed in the NPRM.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with Paragraph 311(a) of FAA Order 1050.1E, Environmental Impacts: Policies and Procedures. This airspace action is not expected to cause any potentially significant impacts, and no extraordinary circumstances exist that warrant preparation of an environmental assessment.

List of Subjects in 14 CFR Part 71

Airspace, Incorporation by reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 2006—Area Navigation Routes.

* * * * *

Q-19 BNA to PLESS [New]
BNA | VORTAC | (Lat. 36°08′13″N., long. 86°41′05″W.)
PLESS | Fix | (Lat. 37°48′35″N., long. 88°57′48″W.)
* * * * * * *
Q-21 JONEZ to RZC [New]
JONEZ | Fix | (Lat. 34°30′57″N., long. 95°27′34″W.)
RZC | VORTAC | (Lat. 36°14′47″N., long. 94°07′17″W.)
* * * * * * *
Q-23 FSM to RZC [New]
FSM | VORTAC | (Lat. 35°23′18″N., long. 94°16′18″W.)
RZC | VORTAC | (Lat. 36°14′47″N., long. 94°07′17″W.)
* * * * * * *
Q-25 MEEOW to PXV [New]
MEEOW | Fix | (Lat. 34°19′05″N., long. 93°31′25″W.)
ARG | VORTAC | (Lat. 36°06′36″N., long. 90°57′13″W.)
WLSUN | WP | (Lat. 37°35′00″N., long. 88°08′00″W.)
PXV | VORTAC | (Lat. 37°55′42″N., long. 87°45′45″W.)
Q-26 ARG to DEVAC [New]
ARG | VORTAC | (Lat. 36°06′36″N., long. 90°57′13″W.)
DEVAC | Fix | (Lat. 34°37′05″N., long. 87°26′07″W.)
Q-27 FSM to ZALDA [New]
FSM | VORTAC | (Lat. 35°23′18″N., long. 94°16′18″W.)
ZALDA | WP | (Lat. 36°04′55″N., long. 93°37′37″W.)
Q-28 GRAZN to PXV [New]
GRAZN | WP | (Lat. 34°15′00″N., long. 94°21′29″W.)
PYRMD | WP | (Lat. 34°34′00″N., long. 93°44′00″W.)
HAKAT | WP | (Lat. 36°17′00″N., long. 91°04′00″W.)
ESTEE | WP | (Lat. 37°41′00″N., long. 88°17′00″W.)
PXV | VORTAC | (Lat. 37°55′42″N., long. 87°45′45″W.)
Q-29 HARES to PXV [New]
HARES | WP | (Lat. 33°00′00″N., long. 91°44′00″W.)
MEM | VORTAC | (Lat. 35°00′54″N., long. 89°59′00″W.)
SIDAE | WP | (Lat. 37°20′00″N., long. 87°50′00″W.)
PXV | VORTAC | (Lat. 37°55′42″N., long. 87°45′45″W.)
Q-30 SQS to VUZ [New]
SQS | VORTAC | (Lat. 33°27′50″N., long. 90°16′38″W.)
VUZ | VORTAC | (Lat. 33°40′13″N., long. 86°53′59″W.)
Q-31 DHART to PXV [New]
DHART | Fix | (Lat. 33°23′52″N., long. 92°25′10″W.)
JODOX | WP | (Lat. 33°40′00″N., long. 92°10′00″W.)
UJM | VOR/DME | (Lat. 34°34′30″N., long. 90°40′28″W.)
TIIDE | WP | (Lat. 37°28′00″N., long. 87°59′00″W.)
PXV | VORTAC | (Lat. 37°55′42″N., long. 87°45′45″W.)
Q-32 ELD to SWAPP [New]
ELD | VORTAC | (Lat. 33°15′22″N., long. 92°44′38″W.)
GAGLE | WP | (Lat. 34°08′00″N., long. 90°17′00″W.)
CRAMM | Fix | (Lat. 34°38′11″N., long. 88°53′55″W.)
BNA | VORTAC | (Lat. 36°08′13″N., long. 86°41′05″W.)
SWAPP | Fix | (Lat. 36°36′50″N., long. 85°10′56″W.)
Q-33 DHART to PROWL [New]
DHART | Fix | (Lat. 33°23′52″N., long. 92°25′10″W.)
LIT | VORTAC | (Lat. 34°40′40″N., long. 92°10′50″W.)
PROWL | WP | (Lat. 37°02′00″N., long. 91°15′00″W.)
Q-34 TXK to SWAPP [New]
TXK | VORTAC | (Lat. 33°30′50″N., long. 94°04′24″W.)
MATIE | Fix | (Lat. 34°05′42″N., long. 92°33′02″W.)
MEM | VORTAC | (Lat. 35°00′54″N., long. 89°59′00″W.)
SWAPP | Fix | (Lat. 36°36′50″N., long. 85°10′56″W.)
* * * * * * *
Q-36 RZC to SWAPP [New]
RZC | VORTAC | (Lat. 36°14′47″N., long. 94°07′17″W.)
TWITS | WP | (Lat. 36°08′32″N., long. 90°54′48″W.)
DEPEC | WP | (Lat. 36°06′00″N., long. 87°31′00″W.)
BNA | VORTAC | (Lat. 36°08′13″N., long. 86°41′05″W.)
SWAPP | Fix | (Lat. 36°36′50″N., long. 86°10′56″W.)
* * * * * * *
Q-38 ROKIT to BESOM [New]
ROKIT | Fix | (Lat. 30°29′50″N., long. 94°30′50″W.)
INCIN | WP | (Lat. 31°21′09″N., long. 92°45′18″W.)
LAREY | WP | (Lat. 32°00′12″N., long. 91°22′22″W.)
BESOM | Fix | (Lat. 33°35′11″N., long. 87°39′23″W.)
* * * * * * *
Q-40 AEX to MISLE [New]
AEX | VORTAC | (Lat. 31°15′24″N., long. 92°30′04″W.)
DOOMS | WP | (Lat. 31°53′08″N., long. 91°09′56″W.)
WINAP | WP | (Lat. 32°38′00″N., long. 89°21′56″W.)
MISLE | WP | (Lat. 33°24′00″N., long. 87°38′00″W.)
* * * * * * *

Issued in Washington, DC on February 7, 2006.
Edith V. Parish,
Manager, Airspace and Rules.

[FR Doc. 06-1312 Filed 2-10-06; 8:45 am]

BILLING CODE 4910-13-P